DEPARTMENT OF COMMERCE

International Trade Administration

[A-428-845, A-533-873, A-475-838, A-580-892, A-570-058, A-441-801]

Certain Cold-Drawn Mechanical Tubing of Carbon and Alloy Steel From the Federal Republic of Germany, India, Italy, the Republic of Korea, the People's Republic of China, and Switzerland: Postponement of Preliminary Determinations in the Less-Than-Fair-Value Investigations

AGENCY: Enforcement and Compliance, International Trade Administration, Department of Commerce.

DATES: Applicable September 12, 2017.

FOR FURTHER INFORMATION CONTACT: Frances Veith at (202) 482-4295 (Federal Republic of Germany (Germany)), Omar Qureshi at (202) 482-5307 (India), Carrie Bethea at (202) 482-1491 (Italy), Annathea Cook at (202) 482-0250 (Republic of Korea (Korea)), Paul Stolz at (202) 482-4474 (People's Republic of China (PRC)), and Amanda Brings at (202) 482-3927 (Switzerland), AD/CVD Operations, Enforcement and Compliance, International Trade Administration, U.S. Department of Commerce, 1401 Constitution Avenue NW., Washington, DC 20230.

SUPPLEMENTARY INFORMATION:

Background

On May 9, 2017, the Department of Commerce (the Department) initiated less-than-fair-value (LTFV) investigations of imports of certain cold-drawn mechanical tubing of carbon and alloy steel from Germany, India, Italy, Korea, the PRC, and Switzerland.¹ Currently, the preliminary determinations are due no later than September 26, 2017.

¹ See Certain Cold-Drawn Mechanical Tubing of Carbon and Alloy Steel from the Federal Republic of Germany, India, Italy, the Republic of Korea, the People's Republic of China, and Switzerland: Initiation of Less-Than-Fair-Value Investigations, 82 FR 22491 (May 16, 2017).

Section 733(b)(1)(A) of the Tariff Act of 1930, as amended (the Act), requires the Department to issue the preliminary determination in a LTFV investigation within 140 days after the date on which the Department initiated the investigation. However, section 733(c)(1)) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request. See 19 CFR 351.205(e).

On September 1, 2017, ArcelorMittal Tubular Products; Michigan Seamless Tube, LLC; PTC Alliance Corp.; Webco Industries, Inc.; and Zekelman Industries, Inc. (collectively, the petitioners) submitted timely requests pursuant to section 703(c)(1)(A) of the Act and 19 CFR 351.205(e) to postpone the preliminary determinations in these LTFV investigations.² The petitioners stated that they request postponement because the Department is still gathering data and questionnaire responses from the foreign producers in these investigations, and additional time is necessary for the Department and interested parties to fully and properly analyze all questionnaire responses.

² See letters from the petitioners, “Cold Drawn Mechanical Tubing from China, Germany, India, Italy, Korea and Switzerland—Petitioners' Request to Postpone the Antidumping Duty Preliminary Determinations,” dated September 1, 2017.

For the reasons stated above and because there are no compelling reasons to deny the request, the Department, in accordance with section 733(c)(1)(A) of the Act, is postponing the deadline for the preliminary determinations by 50 days (i.e., 190 days after the date on which these investigations were initiated). As a result, the Department will issue its preliminary determinations no later than November 15, 2017. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: September 6, 2017.
Gary Taverman,
Deputy Assistant Secretary for Antidumping and Countervailing Duty Operations, performing the non-exclusive functions and duties of the Assistant Secretary for Enforcement and Compliance.

[FR Doc. 2017-19291 Filed 9-11-17; 8:45 am]

BILLING CODE 3510-DS-P